DEPARTMENT OF COMMERCE

International Trade Administration

[A-588-833]

Stainless Steel Bar From Japan: Rescission of Antidumping Duty Administrative Review

AGENCY: Import Administration, International Trade Administration, Department of Commerce.

SUMMARY: In response to a request from an interested party, the Department of Commerce (the Department) initiated an administrative review of the antidumping duty order on stainless steel bar from Japan (the Order) covering the period February 1, 2010, through January 31, 2011. The interested party that requested the administrative review has since withdrawn its request. As a result, the Department is rescinding this review.

DATES: Effective Date: July 17, 2012.

FOR FURTHER INFORMATION CONTACT: Bryan Hansen or Minoo Hatten, AD/CVD Operations, Office 1, Import Administration, International Trade Administration, U.S. Department of Commerce, 14th Street and Constitution Avenue NW., Washington, DC 20230; telephone: (202) 482-3683 or (202) 482-1690, respectively.

SUPPLEMENTARY INFORMATION:

Background

On March 30, 2012, the Department published a notice of initiation of an administrative review of the Order. See Initiation of Antidumping and Countervailing Duty Administrative Reviews and Request for Revocation in Part, and Deferral of Administrative Review, 77 FR 19179, 19181 (March 30, 2012). Based on a request for review from Suruga USA Corp. (Suruga), we initiated a review of Misumi Corporation (Misumi). Id. No other party requested a review. On June 27, 2012, Suruga timely withdrew its request for a review of the Order with respect to Misumi. See Letter from Suruga to the Secretary, “Stainless Steel Bar—Withdrawal of Request for Administrative Review,” dated June 27, 2012.

Rescission of Review

In accordance with 19 CFR 351.213(d)(1), the Department will rescind an administrative review, “in whole or in part, if a party that requested a review withdraws the request within 90 days of the date of publication of notice of initiation of the requested review.” As explained above, Suruga withdrew its request for a review of the Order with respect to Misumi within the 90-day period articulated in 19 CFR 351.213(d)(1). Therefore, because we received no other requests for review of this company and Suruga withdrew its request within the time limit provided in the regulation, we are rescinding the administrative review of the Order with respect to Misumi in accordance with 19 CFR 351.213(d)(1).

Assessment Rates

The Department will instruct U.S. Customs and Border Protection (“CBP”) to assess antidumping duties on all appropriate entries. For Misumi, antidumping duties shall be assessed at rates equal to the cash deposit of estimated antidumping duties required at the time of entry, or withdrawal from warehouse, for consumption, during the period February 1, 2010, through January 31, 2011, in accordance with 19 CFR 351.212(c)(2). The Department intends to issue appropriate assessment instructions to CBP within 15 days after publication of this notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of double antidumping duties.

This notice also serves as a reminder to parties subject to administrative protective order (APO) of their responsibility concerning the return or destruction of proprietary information disclosed under an APO in accordance with 19 CFR 351.305(a)(3). Timely written notification of the return or destruction of APO materials or conversion to judicial protective order is hereby requested. Failure to comply with the regulations and terms of an APO is a violation which is subject to sanction.

This notice is published in accordance with sections 751(a)(1) and 777(i)(1) of the Tariff Act of 1930, as amended, and 19 CFR 351.213(d)(4).

Dated: July 11, 2012.
Christian Marsh,
Deputy Assistant Secretary for Antidumping and Countervailing Duty Operations.

[FR Doc. 2012-17371 Filed 7-16-12; 8:45 am]

BILLING CODE 3510-DS-P